DEPARTMENT OF TRANSPORTATION

Federal Aviation Administration

Advisory Circular 33.70-1, Guidance Material for Aircraft Engine Life-Limited Parts Requirements

AGENCY: Federal Aviation Administration (FAA), DOT.

ACTION: Notice of issuance of advisory circular.

SUMMARY: This notice announces the issuance of Advisory Circular (AC) 33.70-1, Guidance Material for Aircraft Engine Life-limited Parts Requirements. This AC provides definitions, guidance, and acceptable methods that may be used to demonstrate compliance with the engine life-limited parts integrity requirements of § 33.70 of Title 14 of the Code of Federal Regulations. Section 33.70 contains requirements applicable to the design and life management of propulsion system life-limited parts including high-energy rotating parts.

DATES: The Engine and Propeller Directorate issued AC 33.70-1 on July 31, 2009.

FOR FURTHER INFORMATION CONTACT: The Federal Aviation Administration, Attn: Timoleon Mouzakis, Engine and Propeller Standards Staff, ANE-111, 12 New England Executive Park, Burlington, MA 01803-5299; telephone: (781) 238-7114; fax: (781) 238-7199; e-mail: timoleon.mouzakis@faa.gov.

We have filed in the docket all substantive comments received, and a report summarizing them. If you wish to review the docket in person, you may go to the above address between 9 a.m. and 5 p.m., Monday through Friday, except Federal holidays. If you wish to contact the above individual directly, you can use the above telephone number or e-mail address provided.

How to Obtain Copies: A paper copy of AC 33.70-1 may be obtained by writing to the U.S. Department of Transportation, Subsequent Distribution Office, DOT Warehouse, SVC-121.23, Ardmore East Business Center, 3341Q 75th Ave., Landover, MD 20785, telephone 301-322-5377, or by faxing your request to the warehouse at 301-386-5394. The AC will also be available on the Internet at http://www.faa.gov/regulations_policies (then click on “Advisory Circulars”).

Authority: 49 U.S.C. 106(g), 40113, 44701-44702, 44704.

Issued in Burlington, Massachusetts, on July 31, 2009.
Francis A. Favara,
Manager, Engine and Propeller Directorate, Aircraft Certification Service.

[FR Doc. E9-21068 Filed 9-1-09; 8:45 am]

BILLING CODE 4910-13-M